OFFICE OF PERSONNEL MANAGEMENT

30-Day Notice of Proposed Information Collection: Federal Employees Dental and Vision Insurance Program (FEDVIP) Enrollment System

AGENCY: Office of Personnel Management.

ACTION: 30-Day notice and request for comments.

SUMMARY: The Office of Personnel Management (OPM) offers the general public and other federal agencies the opportunity to comment on an existing information collection request (ICR) 3206-0272, Federal Employees Dental and Vision Insurance Program (FEDVIP) Enrollment System. As required by the Paperwork Reduction Act of 1995, amended by the Clinger-Cohen Act, OPM is soliciting comments for this collection.

DATES: Comments are encouraged and will be accepted until November 2, 2022. This process is conducted in accordance with 5 CFR 1320.1.

ADDRESSES: You may submit comments, identified by docket number and title, by the following method:

• Federal Rulemaking Portal: http://www.regulations.gov. Follow the instructions for submitting comments.

All submissions received must include the agency name and docket number for this document. The general policy for comments and other submissions from members of the public is to make these submissions available for public viewing at http://www.regulations.gov as they are received without change, including any personal identifiers or contact information.

FOR FURTHER INFORMATION CONTACT: A copy of this ICR, with applicable supporting documentation, may be obtained by contacting Meredith Gitangu, Office of Personnel Management, 1900 E St. NW, Rm. 3468, Washington, DC 20415 Attention: Meredith Gitangu or send via electronic mail to FEDVIP@opm.gov; or by phone at (202) 606-2678.

SUPPLEMENTARY INFORMATION: The information collection was previously published in the Federal Register on October 21, 2021 in a Notice of Proposed Rulemaking (NPRM) to amend title 5 of the Code of Federal Regulations (CFR) part 894. The proposed rule had a 60-day comment period during which OPM received 7 comments, and 2 comments were unresponsive. No comments were received for the information collection. The purpose of this notice is to allow an additional 30 days for public comments. The Office of Management and Budget is particularly interested in comments that:

1. Evaluate whether the proposed collection of information is necessary for the proper performance of functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

The Federal Employees Dental and Vision Insurance Program Enrollment System uses BENEFEDS, which is the secure enrollment website sponsored by OPM that allows eligible individuals to enroll or change enrollment in a FEDVIP plan. Eligible individuals use the system to enroll or change enrollment during the annual Open Season or when experiencing a qualifying life event under 5 CFR 894.101. FEDVIP is available to eligible Federal civilian and U.S. Postal Service (USPS) employees, retirees (annuitants), survivor annuitants, compensationers, and their eligible family members (dependents); and certain TRICARE-eligible individuals (TEIs) who are authorized under section 715 of Public Law 114-328, on an enrollee-pay-all basis; there is no government contribution toward premiums.

The proposed rule, 89 FR 57764, published on October 21, 2021 proposes to modify eligibility for coverage under the FEDVIP to certain Federal employees on temporary appointments and certain employees on seasonal and intermittent schedules who became eligible for Federal Employees Health Benefits (FEHB) in 2015, and the rule also includes Postal employees on temporary appointments and seasonal and intermittent schedules. It also proposes to expand access to FEDVIP benefits to certain firefighters on temporary appointments and intermittent emergency response personnel who became eligible for FEHB coverage in 2012. This rule also updates the provisions on enrollment for active duty service members who become eligible for FEDVIP as uniformed service retirees pursuant to FY17 NDAA. In addition, this rule adds QLEs for enrollees who may become eligible for and enroll in dental and/or vision services from the VA. Lastly, the rule also has technical corrections and clarifications to the part.

OPM uses this enrollment system to carry out its responsibility to administer the FEDVIP in accordance with 5 U.S.C. chapters 89A and 89B and implementing regulations (5 CFR part 894).

As required by the Paperwork Reduction Act of 1995 (Pub. L. 104-13, 44 U.S.C. chapter 35) OPM is soliciting comments for this collection (OMB No. 3206-0272).

Agency: Office of Personnel Management.

Title: Federal Employees Dental and Vision Insurance Program (FEDVIP) Enrollment System.

OMB Number: 3206-0272-RENEWAL.

Frequency: On occasion.

Affected Public: Individuals or Households.

Number of Respondents: 388,261.

Estimated Time per Respondent: .1211 hours.

Total Burden Hours: 47,108 hours.

Office of Personnel Management.
Kellie Cosgrove Riley,
Director, Office of Privacy and Information Management.

[FR Doc. 2022-21369 Filed 9-30-22; 8:45 am]

BILLING CODE 6325-64-P